DEPARTMENT OF TRANSPORTATION

Surface Transportation Board

[STB Finance Docket No. 33921]

Norfolk Southern Railway Company—Trackage Rights Exemption—Wisconsin Chicago Link, Ltd.

Wisconsin Chicago Link, Ltd. (WCLL), a Class III rail carrier and a subsidiary of Wisconsin Central Transportation Company, a noncarrier holding company,¹ has agreed to grant non-exclusive overhead trackage rights to Norfolk Southern Railway Company (NS) over approximately 1.9 miles of rail line known as the Panhandle Line,² which WCLL currently leases from Pennsylvania Lines LLC (PRR), between approximately PCC&StL milepost 309.8 at Odgen Junction near Rockwell Street and approximately PCC&StL milepost 307.9 near the Ash Street Interlocking in Chicago, Cook County, IL.³

¹ See Wisconsin Central Transportation Corporation—Continuance in Control Exemption—Wisconsin Chicago Link Ltd., STB Finance Docket No. 33811 (STB served Mar. 8, 2000).

² The Panhandle Line was formerly owned by Consolidated Rail Corporation. Pursuant to a transaction approved by the Board, and consummated by the parties on June 1, 1999, PRR was assigned assets designated to be operated as part of the NS rail system (the PRR-Allocated Assets). See CSX Corporation and CSX Transportation, Inc., Norfolk Southern Corporation and Norfolk Southern Railway Company—Control and Operating Leases/Agreements—Conrail Inc. and Consolidated Rail Corporation, STB Finance Docket No. 33388, Decision No. 89 (STB served July 23, 1998).

³ See Wisconsin Chicago Link Ltd.—Lease Exemption—Pennsylvania Lines LLC, STB Finance Docket No. 33831 (STB served Feb. 10, 2000).

NS states that although the lease is yet to be executed and put into effect, the parties expect it to become effective in the near future and wish to be able to put the grant of trackage rights back to NS into effect on or near the same date.

NS reported that it intends to consummate the transaction on September 15, 2000, or as soon thereafter as the parties may agree and/or the time required for any necessary labor notice is given.

The purpose of this trackage rights is to permit NS to move overhead traffic more safely, efficiently, and quickly, as well as reduce congestion and help avoid delays of NS's traffic in the Chicago area.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33921, must be filed with the Surface Transportation Board, Office of the Secretary, Case Control Unit, 1925 K Street, N.W., Washington, DC 20423-0001. In addition, one copy of each pleading must be served on James R. Paschall, Norfolk Southern Railway Company, Three Commercial Place, Norfolk, VA 23510-2191.

Board decisions and notices are available on our website at “WWW.STB.DOT.GOV.”

Decided: September 12, 2000.
By the Board, David M. Konschnik, Director, Office of Proceedings.
Vernon A. Williams,
Secretary.

[FR Doc. 00-24025 Filed 9-19-00; 8:45 am]

BILLING CODE 4915-00-P